FEDERAL RETIREMENT THRIFT INVESTMENT BOARD

Sunshine Act; Notice of Meeting; Correction

Time and Date: 8:30 a.m. (Eastern Time) January 25, 2016 (Telephonic).

Dial in Number: Open Session Dial In: 1-877-446-3914 Pass Code: 956836.

Place: 10th Floor Board Meeting Room, 77 K Street NE., Washington, DC 20002.

Status: Parts will be open to the public and parts closed to the public.

Matters to be Considered:

Parts Open to the Public

1. Approval of the Minutes of the December 14, 2015 Board Member Meeting

2. Monthly Reports

(a) Participant Activity Report

(b) Legislative Report

3. Quarterly Reports

(a) Investment Policy Report

(b) Vendor Financials

(c) Budget Review

(d) Project Activity

(e) Audit Status

4. Audit Report

5. Annual Expense Ratio Review

6. 2016 Calendar Review

Parts Closed to the Public

7. Semi-Annual OGC Litigation Review

8. Security

9. Personnel

FOR FURTHER INFORMATION CONTACT: Kimberly Weaver, Director, Office of External Affairs, (202) 942-1640.

Dated: January 21, 2016.
Megan Grumbine,
Deputy General Counsel, Federal Retirement Thrift Investment Board.

[FR Doc. 2016-01621 Filed 1-22-16; 11:15 am]

BILLING CODE 6760-01-P